DEPARTMENT OF DEFENSE

Office of the Secretary

[Docket ID: DOD-2010-OS-0038]

Privacy Act of 1974; System of Records

AGENCY: Defense Intelligence Agency, DoD.

ACTION: Notice to alter a system of records.

Summary: The Defense Intelligence Agency is proposing to alter a system in its existing inventory of records systems subject to the Privacy Act of 1974, (5 U.S.C. 552a), as amended.

DATES: This proposed action will be effective without further notice on May 10, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency system of records notices subject to the Privacy Act of 1974, (5 U.S.C. 552a), as amended, have been published in the Federal Register and are available from the Defense Intelligence Agency, DAN 1-C, 600 MacDill Blvd., Washington, DC 20340-5100.

The proposed system report, as required by 5 U.S.C. 552a of the Privacy Act of 1974, as amended, was submitted on March 26, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: April 5, 2010.
Mitchell S. Bryman,
Alternate OSD Federal Register Liaison Officer, Department of Defense.

LDIA 07-0004

System name:

Secure Facilities Repository Records (November 14, 2007; 72 FR 64054).

Changes:

* * * * *

Categories of individuals covered by the system:

Delete entry and replace with “DIA Civilians, contractors, and military and other DoD personnel not permanently assigned to DIA.”

Categories of records in the system:

Delete entry and replace with “Individual's full name and employee identification number.”

Authority for maintenance of the system:

Delete entry and replace with “DoD 5200.2R, Personnel Security Programs; Director of Central Intelligence DCI Directive 6-4, Personnel Standards and Procedures for access to Special Compartmented Information; DIA Manual 50-8, Personnel Security Program; DIA Manual 50-14, Security Investigations.”

Purpose(s):

Delete entry and replace with “To process and generate firearms program records and maintain training records for those who receive training from the Security Education and Awareness Branch.”

Routine uses of records maintained in the system, including categories of users:

Delete entry and replace with “In addition to those disclosures generally permitted under 5 U.S.C. 552a(b) of the Privacy Act of 1974, these records contained therein may specifically be disclosed outside the Department of Defense as a routine use pursuant to 5 U.S.C. 552a(b)(3) as follows:

The DoD `Blanket Routine Uses' set forth at the beginning of the DIA's compilation of systems of records notices apply to this system.”

* * * * *

Retrievability:

Delete entry and replace with “Last name and employee identification number.”

Safeguards:

Delete entry and replace with “Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access is limited to persons responsible for servicing and authorized to use the system.”

Retention and disposal:

Delete entry and replace with “Records are temporary; destroy when 5 years old or 5 years after completion of a specific training program. Electronic records are deleted from the system.”

* * * * *

Notification procedure:

Delete entry and replace with “Individuals seeking to determine whether information about themselves is contained in this system of records should address written inquiries to the DIA Freedom of Information Office (DAN-1A), Defense Intelligence Agency, 200 MacDill Blvd., Washington, DC 20340-5100.

Request should contain the individual's full name, current address, telephone number and Social Security Number (SSN).”

Record access procedures:

Delete entry and replace with “Individuals seeking access to information about themselves contained in this system of records, should address written inquiries to the DIA Freedom of Information Office (DAN-1A), 200 MacDill Blvd., Washington, DC 20340-5100.

Request should contain the individual's full name, current address, telephone number and Social Security Number (SSN).”

Contesting record procedures:

Delete entry and replace with “DIA's rules for accessing records, for contesting contents and appealing initial agency determinations are published in DIA Instruction 5400.001 “Defense Intelligence Agency Privacy Program”; or may be obtained from the system manager.”

Record source categories:

Delete entry and replace with “Individual and records migration from the Agency Human Resources Management System.”

* * * * *

LDIA 07-0004

System name:

Secure Facilities Repository Records.

System location:

Defense Intelligence Agency, 200 MacDill Boulevard, Washington, DC 20340-0001.

Categories of individuals covered by the system:

DIA Civilians, contractors, and military and other DoD personnel not permanently assigned to DIA.

Categories of records in the system:

Individual's full name and employee identification number.

Authority for maintenance of the system:

DoD 5200.2R, Personnel Security Programs; Director Of Central Intelligence DCI Directive 6-4, Personnel Standards and Procedures for access to Special Compartmented Information; DIA Manual 50-8, Personnel Security Program; DIA Manual 50-14, Security Investigations.

Purpose(s):

To process and generate firearms program records and maintain training records for those who receive training from the Security Education and Awareness Branch.

Routine uses of records maintained in the system, including categories of users:

In addition to those disclosures generally permitted under 5 U.S.C. 552a(b) of the Privacy Act of 1974, these records contained therein may specifically be disclosed outside the Department of Defense as a routine use pursuant to 5 U.S.C. 552a(b)(3) as follows:

The DoD “Blanket Routine Uses” set forth at the beginning of the DIA's compilation of systems of records notices apply to this system.

Policies and practices for storing, retrieving, accessing, retaining, and disposing of records in the system:

Storage:

Electronic storage media.

Retrievability:

Last name, and employee identification number.

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access is limited to persons responsible for servicing and authorized to use the system.

Retention and disposal:

Records are temporary; destroy when 5 years old or 5 years after completion of a specific training program. Electronic records are deleted from the system.

System manger(s) and address:

Chief, Security Operations Division, Defense Intelligence Agency, 200 MacDill Blvd., Washington, DC 20340-0001

Notification procedure:

Individuals seeking to determine whether information about themselves is contained in this system of records should address written inquiries to the DIA Freedom of Information Office (DAN-1A), Defense Intelligence Agency, 200 MacDill Blvd., Washington, DC 20340-5100.

Request should contain the individual's full name, current address, telephone number and Social Security Number (SSN).

Record access procedures:

Individuals seeking access to information about themselves, contained in this system of records, should address written inquiries to the DIA Freedom of Information Office (DAN-1A), 200 MacDill Blvd., Washington, DC 20340-5100.

Request should contain the individual's full name, current address, telephone number and Social Security Number (SSN).

Contesting record procedures:

DIA's rules for accessing records, for contesting contents and appealing initial agency determinations are published in DIA Instruction 5400.001 “Defense Intelligence Agency Privacy Program”; or may be obtained from the system manager.

Record source categories:

Individual's, and records migration from the Agency Human Resources Management System.

Exemptions claimed for the system:

None.

[FR Doc. 2010-7960 Filed 4-7-10; 8:45 am]

BILLING CODE 5001-06-P